ENVIRONMENTAL PROTECTION AGENCY

40 CFR Part 52

[CA 284-0429; FRL-7620-9]

Partial Removal of Direct Final Rule Provisions Concerning the California State Implementation Plan, Bay Area Air Quality Management District

AGENCY: Environmental Protection Agency (EPA).

ACTION: Partial removal of direct final rule provisions.

SUMMARY: On October 30, 2003 (68 FR 61753), EPA published a direct final approval of a revision to the California State Implementation Plan (SIP). This revision concerned the following Bay Area Air Quality Management District (BAAQMD) rules: Rule 8-14—Surface Preparation and Coating of Large Appliances and Metal Furniture; BAAQMD Rule 8-19—Surface Preparation and Coating of Miscellaneous Metal Parts and Products; BAAQMD Rule 8-31—Surface Preparation and Coating of Plastic Parts and Products; and, BAAQMD Rule 8-43—Surface Preparation and Coating of Marine Vessels. The direct final action was published without prior proposal because EPA anticipated no adverse comment. The direct final rule stated that if adverse comments were received by December 1, 2003, EPA would publish a timely withdrawal in the Federal Register. EPA received timely adverse comments. Consequently, with this revision, we are removing the direct final approval of BAAQMD Rules 8-14 and 8-19. EPA will either address the comments in a subsequent final action based on the parallel proposal also published on October 30, 2003 (68 FR 61782), or repropose an alternative action. As stated in the parallel proposal, EPA will not institute a second comment period on the subsequent final action. The other rules approved in the October 30, 2003, direct final action, BAAQMD Rules 8-31 and 8-43, are not affected by this partial removal and are incorporated into the SIP as of the effective date of the October 30, 2003, direct final action.

EFFECTIVE DATE: February 17, 2004.

FOR FURTHER INFORMATION CONTACT: Jerald S. Wamsley, EPA Region IX, at (415) 947-4111, or via e-mail at wamsley.jerry@epa.gov.

List of Subjects in 40 CFR Part 52

Environmental protection, Air pollution control, Intergovernmental relations, Ozone, Reporting and recordkeeping requirements, Volatile organic compounds.

Dated: January 27, 2004.
Wayne Nastri,
Regional Administrator, Region IX.

Accordingly, 40 CFR 52.220, as amended in the Federal Register on October 30, 2003 (68 FR 61753), effective on December 29, 2003, is further amended.

Part 52, chapter I, title 40 of the Code of Federal Regulations is amended as follows:

PART 52—[AMENDED]

Subpart F—California

1. The authority citation for part 52 continues to read as follows:

Authority: 42 U.S.C. 7401 et seq.

2. Section 52.220 is amended by revising paragraph (c)(315)(i)(A)(2) to read as follows:

* * * * *

(c) * * *

(315) * * *

(i) * * *

(A) * * *

(2) Rule 8-31 adopted on September 7, 1983 and amended on Ocotober 16, 2002; and Rule 8-43 adopted on November 23, 1988 and amended on October 16, 2002.

* * * * *

[FR Doc. 04-3076 Filed 2-13-04; 8:45 am]

BILLING CODE 6560-50-P